DEPARTMENT OF TRANSPORTATION

Federal Motor Carrier Safety Administration

[Docket No. FMCSA-2005-21324]

Pre-Trip Safety Information for Motorcoach Passengers

AGENCY: Federal Motor Carrier Safety Administration (FMCSA), DOT.

ACTION: Notice; request for comments.

SUMMARY: FMCSA seeks comments on its proposed plan to implement National Transportation Safety Board (NTSB) recommendations for providing pre-trip safety information to motorcoach passengers. The NTSB recommends that the agency require, and develop minimum guidelines for, pre-trip safety information to be provided by motorcoach companies to passengers. FMCSA, in conjunction with stakeholders, has developed a basic plan for all motorcoach companies to implement a passenger safety awareness program. FMCSA proposes a flexible plan that would approve several methods of informing motorcoach passengers using visual and/or audio presentation, with or without technology assistance. FMCSA seeks motorcoach industry and stakeholder input in finalizing the plan. The goal of this initiative is to develop, and encourage adoption of, passenger safety awareness guidelines suited for diverse motorcoach operational types.

DATES: We must receive your comments by November 27, 2006.

ADDRESSES: You may submit comments, identified by Docket Number FMCSA-2005-21324, by any of the following methods:

• Federal eRulemaking Portal: http://www.regulations.gov. Follow the instructions for submitting comments.

• Agency Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001. Please submit three copies of written comments.

• Hand Delivery: Submit three copies of written comments to Room PL-401 on the plaza level of the Nassif Building, 400 Seventh Street, SW., Washington, DC, between 9 a.m. and 5 p.m. Monday through Friday, except Federal holidays.

Instructions: Comments must refer to Docket Number FMCSA-2005-21324. All comments received will be posted without change to http://dms.dot.gov, including any personal information provided. For detailed instructions on submitting comments, see the “Public Participation” heading of the SUPPLEMENTARY INFORMATION section of this document. For a summary of DOT's Privacy Act Statement or information on how to obtain a complete copy of DOT's Privacy Act Statement please see the “Privacy Act” heading of the SUPPLEMENTARY INFORMATION section.

Docket: For access to the docket to read the application or comments received, go to http://dms.dot.gov at any time or to Room PL-401 on the plaza level of the Nassif Building, 400 Seventh Street, SW., Washington, DC between 9 a.m. and 5 p.m. Monday through Friday, except Federal holidays.

FOR FURTHER INFORMATION CONTACT: Mr. Peter Chandler, Commercial Passenger Carrier Safety Division (MC-ECP), 202-366-5763; Federal Motor Carrier Safety Administration, U.S. Department of Transportation, 400 Seventh Street, SW., Washington, DC 20590-0001. Office hours are from 8 a.m. to 5 p.m., ET, Monday through Friday, except Federal holidays.

SUPPLEMENTARY INFORMATION:

Public Participation

The DMS is available 24 hours each day, 365 days each year. You can get electronic submission and retrieval help and guidelines under the “Help” section of the DMS Web site. If you want us to notify you of receiving your comments, please include a self-addressed, stamped envelope or postcard or print the acknowledgement page displaying after received of on-line comments.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

I. Background

On February 26, 1999, NTSB issued five recommendations to the Secretary of Transportation. This public notice addresses the two 1999 recommendations subsequently delegated to FMCSA:

H-99-7, Provide guidance on the minimum information to be included in safety briefing materials for motorcoach operators.

H-99-8, Require motorcoach operators to provide passengers with pre-trip safety information.

NTSB made similar recommendations to the American Bus Association (ABA) and the United Motorcoach Association (UMA). The two 1999 recommendations were in response to a motorcoach crash on I-95 near Stony Creek, Virginia. On July 29, 1997, a 1985 Transportation Manufacturing Corporation motorcoach operated by Rite-Way Transportation, Inc. drifted off the side of I-95 and down an embankment into the Nottoway River, where it came to rest on its left side. At the time, a driver and 34 passengers were onboard the motorcoach. One passenger was fatally injured. The driver and 3 passengers sustained serious injuries; 28 passengers sustained minor injuries. NTSB believed this fatal accident highlighted the need for motorcoach passengers to receive pre-trip safety information similar to the emergency evacuation information given during pre-flight safety briefings for commercial airline passengers. During several motorcoach crash investigations by NTSB, passengers described a general sense of panic because they did not know what to do or how to get out of the motorcoach.

In the spring of 2003, FMCSA held informal meetings with ABA, UMA, and the Commercial Vehicle Safety Alliance (CVSA) which culminated in a working group to address the NTSB recommendations. Individuals from the motorcoach operating industry, motorcoach manufacturers, insurance industry, safety consulting industry, trade associations, State agencies, and other Federal regulatory agencies comprised the working group. the working group met initially via conference call on August 19, 2003, and reached consensus on a response to the NTSB recommendations on September 16, 2003.

The working group concluded it would be best to initially encourage the motorcoach industry to take voluntary action to improve pre-trip safety awareness. Motorcoach industry officials asserted it is impossible to develop a uniform passenger safety awareness regulation, flexible enough for industry-wide application, due to wide-ranging operational variances within the motorcoach industry. The group believed development and promotion of a list of best practices is a more effective and realistic alternative to ensure motorcoach passengers receive safety information. This notice announces FMCSA's intent to work together with stakeholders on these safety guidelines. The guidelines would allow motorcoach companies to conduct pre-trip safety briefings as they deem appropriate.

In an April 1, 2005, letter to FMCSA, the NTSB stated that the activities described above will provide motorcoach passengers with increased information about safety, and are responsive to recommendation H-99-7. In addition, NTSB stated such activities also provide an acceptable alternate approach to recommendation H-99-8. Based upon FMCSA's actions taken and plans made, NTSB classified recommendation H-99-7 as “Open—Acceptable Response” and recommendation H-99-8 as “Open—Acceptable Alternate Response.” After reaching general consensus among stakeholders about a basic plan for motorcoach passenger safety awareness and developing a model informational pamphlet, FMCSA will submit such information and material to the NTSB for review. At such time, FMCSA and its safety partners will also begin monitoring crashes and complaints to verify that motorcoach companies are presenting pre-trip safety information to their passengers.

II. Proposed Basic Plan for Motorcoach Passenger Safety Awareness

Minimum Safety Topics To Be Covered

1. Driver Direction—Advise passengers to look to the driver for direction and follow his/her instructions.

2. Avoiding Slips and Falls—Warn passengers to exercise care when boarding and de-boarding the motorcoach, and to use the handrail when ascending or descending steps. Encourage passengers to remain seated as much as possible while the motorcoach is in motion. If it is necessary to walk while the motorcoach is moving, passengers should always use handrails and supports.

Keep the aisle free of all property and debris.

3. Emergency Contact—Advise passengers to call 911 via cellular telephone in the event of an emergency.

4. Emergency exits—Point out the location of all emergency exits (push-out windows, roof vent, and side door) and explain how to operate them, including the emergency door release located on the dash or in the stairwell. Emphasize that, whenever feasible, the motorcoach door should be the primary exit choice. Encourage able-bodied passengers to assist any injured or mobility-impaired passengers during an emergency evacuation.

5. Restroom Emergency Push Button on Switch—Inform motorcoach passengers of the emergency signal advice in the restroom.

6. Fire extinguisher—Point out the location of the fire extinguisher.

Alternative Methods of Presenting the Safety Information

1. During passenger boarding:

a. Informational pamphlets distributed to motorcoach passengers during boarding.

2. After passenger boarding, immediately prior to moving the motorcoach:

a. Suggestion by the driver for passengers to review informational pamphlets located in the pouches or sleeves on the back of seats.

b. Oral presentation on safety information by the motorcoach driver (similar to the presentations by airline flight attendants prior to take-off) with or without informational pamphlets as visual aids.

c. Automated audio presentation broadcasting a cassette tape or compact disk over the motorcoach audio system.

d. Automated video presentation using a videotape or DVD on the motorcoach video system.

Timing and Frequency of the Presentation

Demand-responsive motorcoach operations such as charter and tour service should present the safety information to motorcoach passengers after boarding, prior to movement of the motorcoach.

At a minimum, fixed route motorcoach service operations should present the safety information at all major stops or terminals after boarding, prior to movement of the motorcoach.

III. Request for Comments

FMCSA requests comments on the adequacy and comprehensiveness of the basic plan as well as recommendations for additional plan details.

Issued on: August 21, 2006.
David H. Hugel,
Deputy Administrator, Federal Motor Carrier Safety Administration.

[FR Doc. 06-7182 Filed 8-25-06; 8:45 am]

BILLING CODE 4910-EX-M